NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before August 11, 2003. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, Office of the Secretary of Defense (N1-330-03-1, 25 items, 15 temporary items). Records of the Defense Manpower Data Center that are associated with electronic systems relating to such matters as outreach referral, joint duty assignment management, Federal creditor agency debt collection, and reenlistment eligibility. Included are inputs, electronic master files, system documentation, and outputs along with U.S. Postal Service records used for computer matching. Also included are inputs and outputs of databases for which the master file and system documentation are proposed for permanent retention. Records proposed for permanent retention include master files, and the related system documentation, pertaining to employment and pay matters, noncombatant evacuation and repatriation, criminal and non-criminal incident reports, personnel surveys and census data, and personnel eligibility for benefits. These records were previously scheduled when the Defense Manpower Data Center was part of the Defense Logistics Agency.

2. Department of Energy, Bonneville Power Administration (N1-305-03-2, 40 items, 40 temporary items). Administrative records associated with operation of the agency's power transmission system. These records relate to such matters as outages, load drops, control schemes, system restoration, substations, voltage stability, equipment testing, and reliability. Also included are electronic copies of documents created using electronic mail and word processing. This schedule revises retention periods for these records, which were previously approved for disposal.

3. Department of Health and Human Services, Centers for Disease Control and Prevention (N1-442-02-3, 4 items, 4 temporary items). Records relating to grant programs. Included are case files relating to approved grants, program announcement records addressing such matters as eligibility requirements and scoring criteria, and electronic copies of documents created using electronic mail and word processing. This schedule reduces the retention period for approved grants, which were previously approved for disposal.

4. Department of Education, Office of Inspector General (N1-441-02-1, 17 items, 15 temporary items). Files relating to audits, investigative cases, complaints, inspections, and suspensions and debarments as well as working papers, electronic tracking indexes, and electronic copies of records created using word processing and electronic mail. Proposed for permanent retention are recordkeeping copies of policy files and semiannual reports to Congress. Significant files will be brought to the attention of the National Archives and Records Administration for appraisal on a case-by-case basis.

5. Department of Commerce, National Oceanic and Atmospheric Administration (N1-370-03-9, 4 items, 4 temporary items). Case files detailing the history of regulations, rule making, and policy development. Files include final rules and regulations, proposed regulations and policies, drafts and comments maintained in offices providing input to the originating office, and electronic copies of records created using word processing and electronic mail.

6. Department of Justice, Drug Enforcement Administration (N1-170-03-5, 6 items, 6 temporary items). System inputs, outputs, master files, and documentation associated with the Request for Information Technology Services System, which is used to track agency software project requests. Also included are electronic copies of records created using electronic mail and word processing.

7. Department of Labor, Bureau of Labor Statistics (N1-257-03-1, 8 items, 7 temporary items). Files of the Office of Occupational Safety and Health Statistics relating to special one-time surveys. Included are such records as questionnaires, intermediate reports, copies of publications, electronic data files of survey responses, survey administrative records, and electronic copies of records created using electronic mail and word processing. Proposed for permanent retention are recordkeeping copies of survey publications.

8. Department of the Treasury, Office of Legislative Affairs (N1-56-03-6, 9 items, 5 temporary items). Subject files, correspondence, and working papers. Also included are electronic copies of records created using electronic mail and word processing. Proposed for permanent retention are recordkeeping copies of program material documenting policy decisions, Congressional correspondence of a substantive nature, and legislative work product files containing significant analyses and recommendations.

9. Department of the Treasury, United States Mint (N1-104-03-1, 10 items, 10 temporary items). Records of the U.S. Mint Police, including training records, firearm inventories, and routine building surveillance video tapes. Also included are electronic copies of documents created using electronic mail and word processing.

10. Department of the Treasury, Financial Management Service (N1-425-03-2, 22 items, 22 temporary items). Inputs, outputs, system documentation, master files, and other records associated with the Cash Track System. This system contains information regarding Government expenditures and receipts and assists the agency in maintaining the appropriate level of funds in Government accounts. Also included are electronic copies or records created using electronic mail and word processing.

11. National Archives and Records Administration, Office of Human Resources and Information (N1-64-03-5, 8 items, 8 temporary items). Records relating to planning, managing, and carrying out the agency's internal records management program, including electronic copies of records created using electronic mail and word processing.

12. National Archives and Records Administration, Office of Regional Records Services (N1-64-03-7, 2 items, 2 temporary items). Records associated with the Case Management and Reporting System, an automated system used to manage customer requests for official military personnel files and other records stored at the National Personnel Records Center in St. Louis, Missouri.

Dated: June 23, 2003.
Michael J. Kurtz,
Assistant Archivist for Record Services—Washington, DC.

[FR Doc. 03-16293 Filed 6-26-03; 8:45 am]

BILLING CODE 7515-01-U